MORRIS K. UDALL AND STEWART L. UDALL FOUNDATION

Sunshine Act Meetings

TIME AND DATE: 9:00 a.m. to 2:00 p.m. (PDT), Wednesday, April 28, 2021.

PLACE: The offices of the Morris K. Udall and Stewart L. Udall Foundation, 130 South Scott Avenue, Tucson, AZ 85701.

STATUS: This meeting will be open to the public. Due to COVID-19, visitors are currently prohibited from entering the Udall Foundation offices. Members of the public who would like to attend this meeting should contact Elizabeth Monroe at monroe@udall.gov prior to April 28 to request the teleconference connection information.

MATTERS TO BE CONSIDERED: (1) Call to Order and Chair's Remarks; (2) Executive Director's Remarks; (3) Board Officers & Executive Committee Elections; (4) New Board Chair Vision, Outlook, and Priorities; (5) Consent Agenda Approval (Minutes of the November 20, 2020, Board of Trustees Meeting; Board Reports submitted for Education Programs; Finance and Internal Controls; John S. McCain III National Center for Environmental Conflict Resolution; Native Nations Institute for Leadership, Management, and Policy; Special Collections-Udall Archives; and Udall Center for Studies in Public Policy; Approve Trustees Awards for Outstanding Accomplishment to Bret Muter and Jason Curley; and Board takes notice of any new and updated personnel policies and internal control methodologies); (6) Trustees Award Recognition; (7) Finance and Internal Controls Update; (8) University of Arizona Partnerships Discussion; (9) Discuss and Act on Amendments to the Operating Procedures of the Board of Trustees of the Morris K. Udall and Stewart L. Udall Foundation and a resolution to adopt the amendments; (10) Grants, Gifts, and Donations Discussion; and (11) Trustee Ethics Training.

CONTACT PERSON FOR MORE INFORMATION: David P. Brown, Executive Director, 130 South Scott Avenue, Tucson, AZ 85701, (520) 901-8500.

Dated: April 8, 2021.
David P. Brown,
Executive Director, Morris K. Udall and Stewart L. Udall Foundation, and Federal Register Liaison Officer.

[FR Doc. 2021-07565 Filed 4-8-21; 4:15 pm]

BILLING CODE 6820-FN-P